DEPARTMENT OF HOMELAND SECURITY

Coast Guard

33 CFR Part 117

[Docket No. USCG-2010-0926]

Drawbridge Operation Regulations; Hackensack River, Jersey City, NJ

AGENCY: Coast Guard, DHS.

ACTION: Notice of temporary deviation from regulations.

SUMMARY: The Commander, First Coast Guard District, has issued a temporary deviation from the regulation governing the operation of the Route 1 & 9 Lincoln Highway Bridge across the Hackensack River, mile 1.8, at Jersey City, New Jersey. The deviation allows the bridge owner to require a two-hour advance notice for openings for two and a half months and several short term bridge closures to facilitate bridge painting operations.

DATES: This deviation is effective with constructive notice from October 15, 2010 through December 15, 2010, and for enforcement with actual notice from October 4, 2010 through October 15, 2010.

ADDRESSES: Documents mentioned in this preamble as being available in the docket are part of docket USCG-2010-0926 and are available online at http://www.regulations.gov, inserting USCG-2010-0926 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.arca@uscg.mil, telephone (212) 668-7165. If you have questions on viewing the docket, call Renee V. Wright, Program Manager, Docket Operations, telephone 202-366-9826.

SUPPLEMENTARY INFORMATION: The Route 1 & 9 Lincoln Highway Bridge, across the Hackensack River, mile 1.8, at Jersey City, New Jersey, has a vertical clearance in the closed position of 35 feet at mean high water and 40 feet at mean low water. The drawbridge operation regulations are listed at 33 CFR 117.5.

The waterway is primarily used by deep draft tankers, tugs and barge units.

The owner of the bridge, New Jersey Department of Transportation, requested a second temporary deviation from the regulations to facilitate scheduled bridge painting operations at the bridge.

We issued a previous temporary deviation for this bridge painting project which was in effect from April 1, 2010 through September 15, 2010; however, due to weather related delays additional time is needed to complete the bridge painting before the cold winter climate forces suspension of painting operations.

Waterway users were advised of the requested bridge advance notice and closure periods and offered no objection.

Under this temporary deviation the Route 1 & 9 Lincoln Highway Bridge shall require a two-hour advance notice for bridge openings from October 1, 2010 through December 15, 2010, by calling the number posted at the bridge.

In addition, the bridge owner requested several bridge closures of short duration to facilitate bridge painting operations.

The exact bridge closure dates are not known at this time; however, once determined, we will publish the closure dates in the Local Notice to Mariners two weeks in advance of implementation and also issue a safety information broadcast twenty-four hours in advance of the implementation.

Vessels able to pass under the closed draw may do so at all times.

In accordance with 33 CFR 117.35(e), the bridge must return to its regular operating schedule immediately at the end of the designated time period. This deviation from the operating regulations is authorized under 33 CFR 117.35.

Dated: October 4, 2010.
Gary Kassof,
Bridge Program Manager, First Coast Guard District.

[FR Doc. 2010-25920 Filed 10-14-10; 8:45 am]

BILLING CODE 9110-04-P